DEPARTMENT OF DEFENSE

Department of the Army

Record of Decision (ROD) for Training Range and Garrison Support Facilities Construction and Operation at Fort Stewart, GA

AGENCY: Department of the Army, DoD.

ACTION: Record of Decision.

SUMMARY: The Department of the Army announces the availability of the ROD for the construction and operation of up to twelve range projects and two garrison support facilities at Fort Stewart. The Army, through the ROD, selects Alternative B for implementation. Alternative B includes sites for projects that predominantly utilize footprints of existing ranges, limits construction and restrictions on existing maneuver terrain, are located in relative close proximity to the cantonment area to reduce unit transit time, and have less overall environmental impacts. The decision sites ranges and support facilities in locations that reflect the proper balance of initiatives for the protection of the environment, mission needs, and Soldier and Family quality of life considerations.

ADDRESSES: To request a copy of the ROD, please contact Mr. Charles Walden, Project Manager, Directorate of Public Works, Prevention and Compliance Branch, Environmental Division, 1550 Frank Cochran Drive, Building 1137-A, Fort Stewart, Georgia 31314-4928 or e-mail Charles.Walden4@us.army.mil.

FOR FURTHER INFORMATION CONTACT: Mr. Kevin Larson, Public Affairs Office, at (912) 435-9879 during normal business hours.

SUPPLEMENTARY INFORMATION: The decision to proceed with the implementation of Alternative B allows the Army to better accomplish its sustainability goals on Fort Stewart because the sites are optimal for design, lessen environmental impacts, and are more land-use compatible. Minor to negligible impacts have been identified for cultural resources and consultation with the Georgia State Historic Preservation Office is complete. Moderate adverse impacts have been identified for soils, water quality, protected species, timber resources, wildland fire, and noise as part of implementing the decision. There are no practicable alternatives to locating the projects in wetlands or floodplains, but the selected alternative minimizes floodplain and wetland impacts. There will be moderate adverse impacts to protected species (red-cockaded woodpecker and frosted flatwood salamander). Formal consultation with the U.S. Fish and Wildlife Service is complete and all practicable mitigation measures and best management practices will be implemented to offset environmental impacts. The action will not jeopardize the continued existence of these species. The Known Distance Range, a Qualification Training Range, an Infantry Squad Battle Course, a Fire and Movement Range, and a 25 Meter Zero Range were analyzed as part of the proposed action in the Environmental Impact Statement, but have been deferred due to funding. These five ranges have been included in the ROD because they may be funded in the future. Mitigation associated with these ranges will be implemented in the event the ranges are constructed. The No Action Alternative would not provide enough ranges and support facilities needed to adequately accomplish the mission. Alternative C, with different range and support facility sitings than Alternative B, would result in greater adverse environmental impacts and is not preferred operationally.

The Final EIS and ROD may be accessed at http://www.fortstewart-mmp-eis.com.

Dated: 25 October 2010.
Hershell E. Wolfe,
Acting Deputy Assistant Secretary of the Army, Environment, Safety and Occupational Health.

[FR Doc. 2010-28036 Filed 11-4-10; 8:45 am]

BILLING CODE 3710-08-P